DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Proposed Project: 2004-2006 National Survey on Drug Use and Health: Methodological Field Tests—New—The National Survey on Drug Use and Health (NSDUH), formerly the National Household Survey on Drug Abuse (NHSDA), is a survey of the civilian, noninstitutionalized population of the United States 12 years of age and older. The data are used to determine the prevalence of use of tobacco products, alcohol, illicit substances, and illicit use of prescription drugs. The results are used by SAMHSA, ONDCP, Federal government agencies, and other organizations and researchers to establish policy, direct program activities, and better allocate resources.

This will be a request for generic approval for information collection for NSDUH methodological field tests designed to examine the feasibility, quality, and efficiency of new procedures or revisions to the existing survey protocol. These field tests will examine ways to increase data quality, lower operating costs, and gain a better understanding of various sources of nonsampling error. If these tests provide successful results, current procedures may be revised and incorporated into the main study (e.g., questionnaire changes). Particular attention will be given to minimizing the impact of design changes so that survey data continue to remain comparable over time.

Field test activities are expected to include validating new questions on depression; examining data reliability through the use of test-retest procedures; improving response rates among persons residing in controlled access communities (locked apartment buildings, gated communities, college dormitories, etc.), persons aged 50 or over, and other hard-to-reach populations; and conducting a nonresponse follow-up study. Cognitive laboratory testing will be conducted prior to the implementation of significant questionnaire modifications. These questionnaire modifications will also be pre-tested and the feasibility of text-to-speech software determined. To understand the effectiveness of the current monetary incentive, a new incentive study will be conducted with varying incentive amounts. The relationship between incentives and veracity of reporting will also be examined. Lastly, there will be a test to determine the feasibility of selecting a maximum of three persons per dwelling unit instead of two (triad sampling). Some of the above studies may be combined to introduce survey efficiencies.

The average annual burden associated with these activities over a three-year period is summarized below:

Activity | Number of respondents | Responses per respondent | Average burden per response (hrs.) | Total burden (hrs.)
a. Reliability/depression module validity study | 2,001 | 2 | 1.5 | 6,003
b. Focus groups with 50+ populations | 132 | 1 | 2.0 | 264
c. Improving participation among controlled access and 50+ population, and other hard-to-reach populations | 1,251 | 1 | 1.0 | 1,251
d. Nonresponse follow-up | 1,251 | 1 | 1.0 | 1,251
e. Incentive/validity study | 1,251 | 1 | 1.0 | 1,251
f. Cognitive laboratory testing | 501 | 1 | 1.0 | 501
g. Annual questionnaire pre-test | 999 | 1 | 1.0 | 999
h. Text-to-speech software for voices in computer-assisted interviewing | 249 | 1 | 1.0 | 249
i. Triad sampling | 999 | 1 | 1.0 | 999
Household screening for a-d, f, h, and i | 21,313 | 1 | 0.083 | 1,769
Screening Verification for a, c, d, e, g, and i | 638 | 1 | 0.067 | 43
Interview Verification for a, c, d, e, g, and i | 1,163 | 1 | 0.067 | 78
Total | 22,063 |  |  | 14,658

Estimate Burden for Groups with 50+ Population (also included in above burden table):

Activity | Number of respondents | Responses per respondent | Average burden per response (hrs.) | Total burden (hrs.)
Focus groups with 50+ populations | 132 | 1 | 2.0 | 264
Household screening for a, b, c, d, e, g, and i | 383 | 1 | 0.083 | 32
Total | 383 |  |  | 296
Annual average (Total divided by 3 years) | 128 |  |  | 99

Written comments and recommendations concerning the proposed information collection should be sent by July 1, 2004 to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: May 20, 2004.
Anna Marsh,
Executive Officer, SAMHSA.

[FR Doc. 04-12236 Filed 5-28-04; 8:45 am]

BILLING CODE 4162-20-P